DEPARTMENT OF TRANSPORTATION

Meeting and Webinar on the Active Traffic and Demand Management and Intelligent Network Flow Optimization Operational Concepts; Notice of Public Meeting

AGENCY: Research and Innovative Technology Administration, U.S. Department of Transportation.

ACTION: Notice.

The U.S. Department of Transportation (USDOT) Intelligent Transportation System Joint Program Office (ITS JPO) will host a series of free public meetings and webinars to obtain stakeholder input on the Active Traffic and Demand Management (ADTM) and Intelligent Network Flow Optimization (INFLO) operational concepts. The ADTM meeting is scheduled for February 7, 2012, 8:30 a.m. to 4:30 p.m. followed by the INFLO meeting on February 8, 2012, 8:30 to 4:30 p.m. The location for both meetings is the Hall of States, 444 North Capitol Street NW., Washington, DC 20001, (202) 624-5490.

Persons planning to attend any part of the public meetings and/or webinars should register by January 31, 2012 using the following link: http://www.itsa.org/index.php?option=com_forme&fid=7. For additional questions, please contact Tyler Messa at tmessa@itsa.org.

Background

INFLO is a collection of high-priority transformative applications identified by the USDOT's Mobility program that relate to improving roadway throughput and reducing crashes through the use of frequently collected and rapidly disseminated multi-source data drawn from connected travelers, vehicles, and infrastructure. The program's goal is to support the research and refinement of the INFLO bundle of applications and the potential deployment of an operational system.

ATDM involves market-ready technologies and innovative operational approaches for managing traffic congestion within the existing infrastructure. The vision for ATDM research is to allow transportation agencies to increase traffic flow, improve travel time reliability, and optimize available capacity throughout the transportation network.

Issued in Washington, DC, on the 18th day of January 2012.
John Augustine,
Managing Director, ITS Joint Program Office.

[FR Doc. 2012-1321 Filed 1-23-12; 8:45 am]

BILLING CODE 4910-HY-P